DEPARTMENT OF ENERGY

Federal Energy Regulatory Commission

Combined Notice of Filings

Take notice that the Commission has received the following Natural Gas Pipeline Rate and Refund Report filings:

Filings Instituting Proceedings

Docket Numbers: PR15-35-001.

Applicants: Southcross Alabama Pipeline LLC.

Description: Submits tariff filing per 284.123(b), (e), (g): Revised Tariff filing to be effective 5/1/2015; Filing Type: 1270.

Filed Date: 6/30/15.

Accession Number: 20150630-5107.

Comments Due: 5 p.m. ET 7/21/15.

284.123(g) Protests Due: 5 p.m. ET 7/21/15.

Docket Numbers: RP15-1090-000.

Applicants: Monroe Gas Storage Company, LLC.

Description: Compliance filing Compliance Filing—FERC Order No. 801 System Maps to be effective 6/30/2015.

Filed Date: 6/30/15

Accession Number: 20150630-5136.

Comments Due: 5 p.m. ET 7/13/15.

Docket Numbers: RP15-1091-000.

Applicants: Cadeville Gas Storage LLC.

Description: Compliance filing Compliance Filing—FERC Order No. 801 System Maps to be effective 6/30/2015

Filed Date: 6/30/15.

Accession Number: 20150630-5141.

Comments Due: 5 p.m. ET 7/13/15.

Docket Numbers: RP15-1092-000.

Applicants: Perryville Gas Storage LLC, Perryville Gas Storage LLC.

Description: Compliance filing Compliance Filing—FERC Order No. 801 System Maps to be effective 6/30/2015.

Filed Date: 6/30/15.

Accession Number: 20150630-5144.

Comments Due: 5 p.m. ET 7/13/15.

Docket Numbers: RP15-1093-000.

Applicants: Gulf South Pipeline Company, LP.

Description: Section 4(d) Rate Filing: Amendment to Neg Rate Agmt (FPL 40097-14) to be effective 7/1/2015.

Filed Date: 6/30/15.

Accession Number: 20150630-5184.

Comments Due: 5 p.m. ET 7/13/15.

Docket Numbers: RP15-1094-000.

Applicants: Colorado Interstate Gas Company, L.L.C.

Description: Section 4(d) Rate Filing: Non-Conforming Agreement Update Filing to be effective 8/1/2015.

Filed Date: 6/30/15.

Accession Number: 20150630-5190.

Comments Due: 5 p.m. ET 7/13/15.

Docket Numbers: RP15-1095-000.

Applicants: Iroquois Gas Transmission System, L.P.

Description: Measurement Variance/Fuel Use Factors of Iroquois Gas Transmission System, L.P.

Filed Date: 6/30/15.

Accession Number: 20150630-5194.

Comments Due: 5 p.m. ET 7/13/15.

Docket Numbers: RP15-1096-000.

Applicants: Transcontinental Gas Pipe Line Company.

Description: Section 4(d) Rate Filing: Negotiated Rates—Cherokee AGL—Replacement Shippers—Jul 2015 to be effective 7/1/2015.

Filed Date: 6/30/15.

Accession Number: 20150630-5199.

Comments Due: 5 p.m. ET 7/13/15.

Docket Numbers: RP15-1097-000.

Applicants: Wyoming Interstate Company, L.L.C.

Description: Section 4(d) Rate Filing: Non-Conforming Agreement Update to be effective 8/1/2015.

Filed Date: 6/30/15.

Accession Number: 20150630-5202.

Comments Due: 5 p.m. ET 7/13/15.

Docket Numbers: RP15-1098-000.

Applicants: Enable Gas Transmission, LLC.

Description: Section 4(d) Rate Filing: Negotiated Rate Filing—June 30 2015—Entergy 8791 LER 8744 and SWEPCO 6888 to be effective 7/1/2015.

Filed Date: 6/30/15.

Accession Number: 20150630-5243.

Comments Due: 5 p.m. ET 7/13/15.

Docket Numbers: RP15-1099-000.

Applicants: Rockies Express Pipeline LLC.

Description: Section 4(d) Rate Filing: Neg Rate 2015-06-30 Mieco, Exelon, BP, Tenaska to be effective 7/1/2015.

Filed Date: 6/30/15.

Accession Number: 20150630-5258.

Comments Due: 5 p.m. ET 7/13/15.

Docket Numbers: RP15-1100-000.

Applicants: National Fuel Gas Supply Corporation.

Description: Section 4(d) Rate Filing: Decoupled Releases to be effective 8/1/2015.

Filed Date: 6/30/15.

Accession Number: 20150630-5262.

Comments Due: 5 p.m. ET 7/13/15.

Docket Numbers: RP15-1101-000.

Applicants: Big Sandy Pipeline, LLC.

Description: Section 4(d) Rate Filing: Big Sandy EPC 2015 to be effective 8/1/2015.

Filed Date: 6/30/15.

Accession Number: 20150630-5271.

Comments Due: 5 p.m. ET 7/13/15.

Docket Numbers: RP15-1102-000.

Applicants: Texas Eastern Transmission, LP.

Description: Section 4(d) Rate Filing: EPC AUG 2015 FILING to be effective 8/1/2015.

Filed Date: 6/30/15.

Accession Number: 20150630-5274.

Comments Due: 5 p.m. ET 7/13/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified date(s). Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 1, 2015.
Nathaniel J. Davis, Sr.,
Deputy Secretary.

[FR Doc. 2015-16886 Filed 7-9-15; 8:45 am]

BILLING CODE 6717-01-P